FEDERAL COMMUNICATIONS COMMISSION

47 CFR Part 27

[GN Docket No. 12-268, ET Docket No. 13-26 and ET Docket No. 14-14, FCC 15-141]

Expanding the Economic and Innovation Opportunities of Spectrum Through Incentive Auctions; Office of Engineering and Technology Releases and Seeks Comment on Updated OET-69 Software; Office of Engineering and Technology Seeks To Supplement the Incentive Auction Proceeding Record Regarding Potential Interference Between Broadcast Television and Wireless Services

AGENCY: Federal Communications Commission.

ACTION: Final rule; announcement of effective date.

SUMMARY: In this document, the Commission announces that the Office of Management and Budget (OMB) has approved, for a period of three years, the information collection associated with the Commission's Expanding the Economic and Innovation Opportunities of Spectrum Through Incentive Auctions, Third Report and Order and First Order on Reconsideration (Order)'s no harmful interference rule. This document is consistent with the Order, which stated that the Commission would publish a document in the Federal Register announcing the effective date of the rule.

DATES: The amendment to 47 CFR 27.1310 published at 80 FR 71731, November 17, 2015, are effective October 22, 2018.

FOR FURTHER INFORMATION CONTACT: Aspasia Paroutsas, Office of Engineering and Technology, at (202) 418-7285, or email: Aspasia.Paroutsas@fcc.gov. For additional information concerning the Paperwork Reduction Act information collection requirements contact Nicole Ongele at (202) 418-2991 or via email at Nicole.Ongele@fcc.gov.

SUPPLEMENTARY INFORMATION: This document announces that, on April 3, 2017, OMB approved, for a period of three years, the information collection requirements relating to the harmful interference rule contained in the Commission's Order, FCC 15-141, published at 80 FR 71731, November 17, 2015. The OMB Control Number is 3060-1229. The Commission publishes this document as an announcement of the effective date of the rule. If you have any comments on the burden estimates listed below, or how the Commission can improve the collections and reduce any burdens caused thereby, please contact Nicole Ongele, Federal Communications Commission, Room 1-A620, 445 12th Street SW, Washington, DC 20554. Please include the OMB Control Number, 3060-1229, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on April 3, 2017, for the information collection requirements contained in the modifications to the Commission's rules in 47 CFR part 27.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1229.

The foregoing notice is required by the Paperwork Reduction Act of 1995, Public Law 104-13, October 1, 1995, and 44 U.S.C. 3507.

The total annual reporting burdens and costs for the respondents are as follows:

OMB Control Number: 3060-1229.

OMB Approval Date: April 3, 2017.

OMB Expiration Date: April 30, 2020.

Title: Expanding the Economic and Innovation Opportunities of Spectrum Through Incentive Auctions.

Form Number: N/A.

Respondents: Business or other for-profit entities.

Number of Respondents and Responses: 832 respondents; 832 responses.

Estimated Time per Response: 1 hour.

Frequency of Response: Wireless licensees who are required to conduct an interference study will be required to produce the study upon request and when an interference complaint occurs.

Obligation to Respond: Mandatory. The statutory authority for this information collection is contained in 47 U.S.C. 151, 154, 301, 303, 307, 308, 309, 316, 319, 332, 403, 1452 and 1454.

Total Annual Burden: 832 hours.

Total Annual Cost: $10.

Nature and Extent of Confidentiality: There is no need for confidentiality. However, applicants may request that any information supplied be withheld from public inspection, pursuant to 47 CFR 0.459 of the FCC's rules. This request must be justified pursuant to 47 CFR 0.457.

Privacy Act Impact Assessment: No impact(s).

Needs and Uses: The collection was submitted to the Office of Management and Budget (OMB) and approved for the information collection requirements relating to the harmful interference rule contained in the Commission's Order, FCC 15-141.

On October 26, 2015, the Federal Communications Commission released a Third Report and Order and First Order on Reconsideration, FCC 15-141, published at 80 FR 71731, November 17, 2015, Expanding the Economic and Innovation Opportunities of Spectrum Through Incentive Auctions, ET Docket Nos. 13-26, 14-14 and GN Docket No. 12-268, adopting a final rule—containing information requirements—which resolved the remaining technical issues affecting the operation of 600 MHz wireless licenses and broadcast television stations in areas where they operate on the same or adjacent channels in geographic proximity. Specifically, the Commission adopted a rule requiring wireless licensees to conduct an interference study prior to deploying or operating a wireless base station within a specified distance of a broadcast television station that is co-channel or adjacent channel to their spectrum. A wireless licensee is required to provide this interference study to the Commission upon request or to the broadcast television station when there is an interference complaint.

Federal Communications Commission.
Marlene Dortch,
Secretary, Office of the Secretary.

[FR Doc. 2018-22973 Filed 10-19-18; 8:45 am]

BILLING CODE 6712-01-P